ENVIRONMENTAL PROTECTION AGENCY

40 CFR Part 52

Revisions to the California State Implementation Plan, South Coast Air Quality Management District

CFR Correction

In Title 40 of the Code of Federal Regulations, Part 52 (§§ 52.01 to 52.1018), revised as of July 1, 2013, on page 277, in § 52.220, the paragraph designation for paragraph (311)(A)(i)(2) is italicized and the paragraph is moved to before paragraph (311)(A)(i)(3).

[FR Doc. 2014-02088 Filed 1-30-14; 8:45 am]

BILLING CODE 1505-01-D